DEPARTMENT OF STATE

[Public Notice 6616 ]

Determination and Certification Under Section 40a of the Arms Export Control Act

Pursuant to section 40A of the Arms Export Control Act (22 U.S.C. 2781), and Executive Order 11958, as amended, I hereby determine and certify to the Congress that the following countries are not cooperating fully with United States antiterrorism efforts: Cuba, Eritrea, Iran, Democratic People's Republic of Korea (DPRK, or North Korea), Syria, Venezuela.

This determination and certification shall be transmitted to the Congress and published in the Federal Register.

Dated: May 8, 2009.
James B. Steinberg,
Deputy Secretary of States, Department of State.

[FR Doc. E9-11545 Filed 5-15-09; 8:45 am]

BILLING CODE 4710-10-P